DEPARTMENT OF TRANSPORTATION

Federal Aviation Administration

Notice of Intent To Request Revision From the Office of Management and Budget of a Currently Approved Information Collection Activity, Request for Comments; Medical Standards and Certification

AGENCY: Federal Aviation Administration (FAA), DOT.

ACTION: Notice and request for comments.

SUMMARY: The FAA invites public comments about our intention to request the Office of Management and Budget (OMB) to approve a current information collection. The DOT/FAA certification program is implemented by Title 14 CFR parts 61 and 67. The Parts prescribes minimum airman medical standards, and duration of a medical certificate.

DATES: Please submit comments by December 28, 2007.

FOR FURTHER INFORMATION CONTACT: Carla Mauney on (202) 267-9895, or by e-mail at: Carla.Mauney@faa.gov.

SUPPLEMENTARY INFORMATION:

Federal Aviation Administration (FAA)

Title: Medical Standards and Certification.

Type of Request: Revision of an approved collection.

OMB Control Number: 2120-0034.

Form(s): FAA Forms 8500-7, 8500-8, 8500-14, 8500-20.

Affected Public: A total of 438,682 respondents.

Frequency: The information is collected on occasion.

Estimated Average Burden per Response: Approximately 1.46 hours per response.

Estimated Annual Burden Hours: An estimated 661,170 annually.

Abstract: The DOT/FAA certification program is implemented by Title 14 CFR parts 61 and 67. The Parts prescribes minimum airman medical standards, and duration of a medical certificate. Information collected substantiates the applicant's eligibility.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC on October 23, 2007.
Carla Mauney,
FAA Information Collection Clearance Officer, IT Enterprises Business Services Division, AES-200.

[FR Doc. 07-5355 Filed 10-26-07; 8:45 am]

BILLING CODE 4910-13-M